DEPARTMENT OF LABOR

Employment and Training Administration

[TA-W-52,101]

Pearl Baths, Inc., a Division of MAAX, Inc., Brooklyn Park, MN; Notice of Negative Determination Regarding Application for Reconsideration

By application of August 18, 2003, a petitioner requested administrative reconsideration of the Department's negative determination regarding eligibility for workers and former workers of the subject firm to apply for Trade Adjustment Assistance (TAA). The denial notice was signed on July 25, 2003 and published in the Federal Register on August 14, 2003 (68 FR 48645).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Pearl Baths, Inc., a division of MAXX, Inc., Brooklyn Park, Minnesota engaged in the production of whirlpool baths was denied because the “contributed importantly” group eligibility requirement of Section 222 of the Trade Act of 1974 was not met and production was not shifted abroad.

The petitioner's main allegation consisted in the fact that employees of the Marketing, Customer Service, Tech Service and Accounting Departments, who were engaged in production, were separated as a result of a shift of their positions to Canada.

Marketing, customer service, tech service and accounting do not constitute production according to the eligibility requirements for trade adjustment assistance.

Only in very limited instances are service workers certified for TAA, namely the worker separations must be caused by a reduced demand for their services from a parent or controlling firm or subdivision whose workers produce an article and who are currently under certification for TAA.

Conclusion

After review of the application and investigative findings, I conclude that there has been no error or misinterpretation of the law or of the facts which would justify reconsideration of the Department of Labor's prior decision. Accordingly, the application is denied.

Signed at Washington, DC this 2nd day of October, 2003.
Elliott S. Kushner,
Certifying Officer, Division of Trade Adjustment Assistance.

[FR Doc. 03-29260 Filed 11-21-03; 8:45 am]

BILLING CODE 4510-30-P